FEDERAL COMMUNICATIONS COMMISSION

Deletion of Agenda Items From October 22, 2015 Open Meeting

October 22, 2015.

The following items have been deleted from the list of Agenda items scheduled for consideration at the Thursday, October 22, 2015, Open Meeting and previously listed in the Commission's Notice of October 15, 2015. These items have been adopted by the Commission.

Item No. | Bureau | Subject
3 | Wireless Telecommunications | TITLE: Expanding the Economic and Innovation Opportunities of Spectrum Through Incentive Auctions (GN Docket No. 12-268). SUMMARY: The Commission will consider a Report and Order addressing when and in what areas 600 MHz Band wireless licensees will be deemed to “commence operations” for the purposes of establishing when the secondary and unlicensed users must cease operations and vacate the 600 MHz Band in those areas.
4 | Office of Engineering and Technology | TITLE: Expanding the Economic and Innovation Opportunities of Spectrum Through Incentive Auctions (GN Docket No. 12-268); Office of Engineering and Technology Releases and Seeks Comment on Updated OET-69 Software (ET Docket No. 13-26); and Office of Engineering and Technology Seeks to Supplement the Incentive Auction Proceeding Record Regarding Potential Interference Between Broadcast Television and Wireless Services (ET Docket No. 14-14). SUMMARY: The Commission will consider a Third Report & Order and First Order on Reconsideration that adopts rules to govern inter-service interference between broadcast television stations and wireless licensees in the 600 MHz Band following the incentive auction and sets out protection criteria for television stations and wireless operations in the band.
5 | Media | TITLE: Expanding the Economic and Innovation Opportunities of Spectrum Through Incentive Auctions (GN Docket No. 12-268) and Channel Sharing by Full Power and Class A Stations Outside the Broadcast Television Spectrum Incentive Auction Context (MB Docket No. 15-137). SUMMARY: The Commission will consider a Second Order on Reconsideration to provide additional flexibility to broadcasters interested in the incentive auction channel sharing option by clarifying that “back-up” channel sharing agreements are permitted under the rules and providing more time for successful incentive auction bidders to transition to shared facilities after the auction.
6 | Consumer and Governmental Affairs | TITLE: Structure and Practices of the Video Relay Service Program (CG Docket No. 10-51) and Telecommunications Relay Services and Speech-to-Speech Disabilities (CG Docket No. 03-123). SUMMARY: The Commission will consider a Further Notice of Proposed Rulemaking on whether to modify, in part, the four-year compensation rate plan for video relay service (VRS) and whether to adopt measures that may enhance the functional equivalence of VRS. In the same item, the Commission will consider an Order to modify, in part, the currently applicable VRS compensation rates pending action on the Further Notice of Proposed Rulemaking.

Federal Communications Commission.
Marlene H. Dortch,
Secretary.

[FR Doc. 2015-27279 Filed 10-26-15; 8:45 am]

BILLING CODE 6712-01-P